DEPARTMENT OF COMMERCE

Foreign-Trade Zones Board

[B-26-2013]

Foreign-Trade Zone 236—Palm Springs, California; Application for Reorganization and Expansion Under Alternative Site Framework

An application has been submitted to the Foreign-Trade Zones (FTZ) Board (the Board) by the City of Palm Springs, grantee of FTZ 236, requesting authority to reorganize and expand the zone under the alternative site framework (ASF) adopted by the Board (15 CFR 400.2(c)). The ASF is an option for grantees for the establishment or reorganization of zones and can permit significantly greater flexibility in the designation of new subzones or “usage-driven” FTZ sites for operators/users located within a grantee's “service area” in the context of the Board's standard 2,000-acre activation limit for a zone. The application was submitted pursuant to the Foreign-Trade Zones Act, as amended (19 U.S.C. 81a-81u), and the regulations of the Board (15 CFR part 400). It was formally docketed on March 25, 2013.

FTZ 236 was approved by the Board on February 3, 1999 (Board Order 1013, 64 FR 7854, 02/17/1999). The current zone includes the following sites: Site 1 (902 acres)—Palm Springs International Airport, 3400 E. Tahquitz Canyon Way, 410 N. Farrell Drive, 820 Research Drive and adjacent Gene Autry Business Park, Palm Springs; and, Site 2 (14 acres)—within the 18-acre Palm Springs Rail Station, 63950 Palm Springs Station Road, Palm Springs.

The grantee's proposed service area under the ASF would be a portion of eastern Riverside County, California, as described in the application. If approved, the grantee would be able to serve sites throughout the service area based on companies' needs for FTZ designation. The proposed service area is within and adjacent to the Palm Springs U.S. Customs and Border Protection port of entry.

The applicant is requesting authority to reorganize its existing zone project to include existing Site 1 as a “magnet” site. The ASF allows for the possible exemption of one magnet site from the “sunset” time limits that generally apply to sites under the ASF, and the applicant proposes that Site 1 be so exempted. In addition, the applicant is also requesting the approval of the following new magnet site: Proposed Site 3 (26.72 acres)—Dowling Orchard Business Park, 415 Nicholas Road, 920 4th Street and 4th Street and Nicholas Road, Beaumont (Riverside County). The applicant is also requesting as part of the reorganization that Site 2 be removed from the zone project.

In accordance with the Board's regulations, Christopher Kemp of the FTZ Staff is designated examiner to evaluate and analyze the facts and information presented in the application and case record and to report findings and recommendations to the Board.

Public comment is invited from interested parties. Submissions shall be addressed to the Board's Executive Secretary at the address below. The closing period for their receipt is May 28, 2013. Rebuttal comments in response to material submitted during the foregoing period may be submitted during the subsequent 15-day period to June 12, 2013.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz. For further information, contact Christopher Kemp at Christopher.Kemp@trade.gov or (202) 482-0862.

Dated: March 25, 2013.
Andrew McGilvray,
Executive Secretary.

[FR Doc. 2013-07395 Filed 3-28-13; 8:45 am]

BILLING CODE P